DEPARTMENT OF THE INTERIOR

Bureau of Land Management

[LLHQ330000.L1340000. PQ0000.234]

Notice of Intent To Prepare a Programmatic Environmental Impact Statement To Evaluate Utility-Scale Solar Energy Planning and Amend Resource Management Plans for Renewable Energy Development

AGENCY: Bureau of Land Management, Interior.

ACTION: Notice of intent.

SUMMARY: In compliance with the National Environmental Policy Act of 1969, as amended (NEPA), and the Federal Land Policy and Management Act of 1976, as amended, the Bureau of Land Management (BLM) intends to prepare resource management plan (RMP) amendments with an associated programmatic environmental impact statement (EIS) for the BLM's utility-scale solar energy planning and by this notice is announcing the beginning of the scoping period to solicit public comments and identify issues and is providing the planning criteria for public review.

DATES: The BLM requests that the public submit comments concerning the scope of the analysis, potential alternatives, and identification of relevant information, and studies by February 6, 2023. To afford the BLM the opportunity to consider comments in the Draft programmatic EIS/RMP amendments, please ensure your comments are received prior to the close of the 60-day scoping period or 15 days after the last public meeting, whichever is later.

ADDRESSES: You may submit comments on issues and planning criteria related to the programmatic EIS for renewable energy development in Western States RMP amendments by the following methods:

• Website: https://eplanning.blm.gov/eplanning-ui/admin/project/2022371/510. This is the preferred method of commenting.

• Email: solar@blm.gov.

• Mail: Solar Energy PEIS Scoping, 1849 C Street NW, Washington, DC 20006.

The BLM will hold two virtual and 12 in-person public scoping meetings at the following locations:

• Phoenix, Arizona;

• Sacramento, California;

• Grand Junction, Colorado;

• Washington, DC;

• Boise, Idaho;

• Billings, Montana;

• Albuquerque, New Mexico;

• Reno, Nevada;

• Bend, Oregon;

• Salt Lake City, Utah;

• Spokane, Washington; and

• Cheyenne, Wyoming;

The specific dates and locations of these scoping meetings will be announced through the local media and the project website listed above.

FOR FURTHER INFORMATION CONTACT: Jeremy Bluma, Acting Division Chief, National Renewable Energy Coordination Office (NRECO), BLM Headquarters, jbluma@blm.gov or (208) 789-6014. Individuals in the United States who are deaf, deafblind, hard of hearing, or have a speech disability may dial 711 (TTY, TDD, or TeleBraille) to access telecommunications relay services for contacting Mr. Bluma. Individuals outside the United States should use the relay services offered within their country to make international calls to the point-of-contact in the United States.

SUPPLEMENTARY INFORMATION: Through this notice, the BLM announces its intention to initiate a programmatic EIS for renewable energy development in Western States and associated RMP amendments, as appropriate. The programmatic EIS will predominately evaluate the environmental effects of potential modifications to improve and expand the BLM's utility-scale solar energy planning and may involve land use allocation modifications related to other renewable energy development types, such as wind energy. The BLM is issuing this Notice of Intent to inform the public about the proposed actions; announce plans to conduct 14 public scoping meetings; invite public participation in the scoping process; solicit public comments for consideration in establishing the scope and content of the programmatic EIS and alternatives; and identify potential environmental issues. The BLM will consult with Indian Tribal Nations on a government-to-government basis as described in the Additional Information section of this notice.

Background Information

In October of 2012, the BLM signed the Western Solar Plan Record of Decision (Western Solar Plan) implementing solar energy policies, procedures, and land use plan amendments related to permitting of solar energy developments on public lands in six Southwestern States (Arizona, California, Colorado, Nevada, New Mexico, and Utah). The Western Solar Plan played a large part in establishing a more comprehensive solar energy program within the bureau through authorization policies, procedures, and design features applicable to all utility-scale solar energy development on BLM-administered lands across the six-state area. It identified categories of lands to be excluded from utility-scale solar energy development and specific locations well suited for utility-scale production of solar energy where the BLM prioritizes development (i.e., solar energy zones or SEZs). The Western Solar Plan also allowed for consideration of utility-scale solar development proposals on lands outside of SEZs in accordance with procedures in the variance process established by the plan and decisions. It also established certain programmatic design features for utility-scale solar energy development on BLM-administered lands. The Western Solar Plan amended the land use plans in the six-state study area to reflect the identification of excluded lands and variance lands and the designation of SEZs. The designation of SEZs was based on consideration of a variety of solar generation technologies, including concentrated solar technology, which generally requires substantially flat areas with high levels of direct sunlight.

Purpose and Need for the Proposed Action

Updating the BLM's solar energy planning would advance the goals of recent Executive Order 14008 and the Energy Act of 2020. In Executive Order 14008, Tackling the Climate Crisis at Home and Abroad, the President ordered the Secretary of the Interior (Secretary) to “review siting and permitting processes on public lands” with a goal of increasing “renewable energy production on those lands . . . while ensuring robust protection for our lands, waters, and biodiversity and creating good jobs.” The Energy Act of 2020 directs the Secretary to “seek to issue permits that, in total, authorize production of not less than 25 gigawatts of electricity from wind, solar, and geothermal energy projects by not later than 2025, through management of public lands and administration of Federal laws.” 43 U.S.C. 3004(b).

In the 10 years since the Western Solar Plan was issued, the BLM has recognized that updating and expanding the Solar Energy Program would be appropriate to advance current and future renewable energy goals and to support conservation and climate priorities. The 2012 Western Solar Plan facilitated solar development applications for locations within the public lands where the landscape was generally flat, direct sunlight was ample, and high-value resources would not be significantly impacted. Due to technological advancements and reduced costs in photovoltaic systems, the BLM has received continued interest from photovoltaic solar developers in locations that were allocated as exclusion areas, under the Western Solar Plan, based on exclusion criteria for slope or solar insolation values. The purpose of this programmatic EIS and associated RMP amendments is to focus the BLM's utility-scale solar energy planning on resource management on BLM-administered lands rather than specifying technology-based criteria for solar development on public lands; expand the Program to additional states; increase opportunities for responsible renewable energy development in priority and variance areas; and develop appropriate criteria to exclude high-value resource areas from renewable energy development. The programmatic EIS will also consider and adjust policy or procedural elements of how the bureau planning for utility-scale solar energy development on BLM-administered lands where appropriate.

Preliminary Alternatives

The draft programmatic EIS will analyze a suite of potential modifications and updates to the Western Solar Plan to be fully developed after considering input received during the scoping period.

The BLM will develop and analyze alternatives that will include a range of proposed modifications and updates to some or all of the aspects of the BLM's solar energy planning summarized below. The BLM has not yet selected a preferred alternative for any aspect of the programmatic EIS.

Study Area: The Western Solar Plan was limited to six Western States (Arizona, California, Colorado, New Mexico, Nevada, and Utah) based on initial resource assessments showing those states encompassed the most prospective solar energy resources suitable for utility-scale development over the next 20 years as of 2012. Advancements in technology, updated resource information, and shifts in energy market economics have resulted in the need for an updated assessment for renewable energy planning. Additional Western States appear to have available solar energy resources on public lands that would be suitable for development in the coming decades. The BLM intends that at least one proposed alternative in the programmatic EIS would include the 11 Western States (Arizona, California, Colorado, Idaho, Montana, Nevada, New Mexico, Oregon, Utah, Washington, and Wyoming), or portions thereof. The BLM is interested in feedback on the appropriate scope of the study area and may reduce the number of states included prior to developing the draft programmatic EIS.

The BLM will consider the extent to which lands covered by the Desert Renewable Energy Conservation Plan, an interagency landscape-scale planning effort covering 22.5 million acres in seven southern California counties, should be included in the study area. The BLM will also consider the extent to which lands in Arizona, covered by the Restoration Design Energy Project, should be included in the study area for the programmatic EIS.

Exclusion Criteria: The Western Solar Plan required that all future utility-scale solar energy development projects be in conformance with the Plan's exclusions (Table A-2) and the associated land use plan amendments (43 CFR 1601.0-5(b)). Due to the size and scale of utility-scale solar energy development (generally involving a single use of public lands), the BLM excluded a broader set of categories than would be identified in a land use plan for other types of rights-of way (ROWs). In all, 32 exclusion categories apply to some or all of the area covered by the Western Solar Plan.

It may be appropriate to modify or eliminate some of these exclusion categories, based on new information and advances in technology. For example, exclusion criteria 1 (excluding development in locations with slopes greater than 5 percent) and 2 (excluding development where insolation values are below 6.5 kWh/m²/day) were based on technological constraints present at the time the 2012 programmatic EIS was prepared which might no longer apply. The BLM intends that at least one proposed alternative would remove criteria 1 and 2 from the exclusions to the Solar Energy Program.

The remaining 30 exclusion criteria are resource-based. The BLM will consider changes to those exclusions, particularly with respect to resources in the States added to the study area. The BLM is interested in public comment on whether, in addition to modifying exclusion criteria for solar energy development, the Bureau should establish similar exclusion criteria for wind energy development.

Land Use Allocations: The Western Solar Plan and associated land use plan amendments: (1) excluded lands from utility-scale solar energy development based on a variety of criteria (about 79 million acres or 319,702 km²); (2) identified specific locations well suited for utility-scale production of solar energy (i.e., SEZs) where the BLM prioritizes development (about 285,000 acres or 1,553 km²), and (3) allowed for responsible utility-scale solar energy development in variance areas outside of SEZs and exclusion areas in accordance with the variance process described in the 2012 programmatic EIS (about 19 million acres or 82,964 km²). The Western Solar Plan emphasized and incentivized development within SEZs and included a collaborative process to identify additional SEZs. The BLM's goal in prioritizing and incentivizing development in SEZs was to speed development of solar energy projects on BLM lands with high potential for solar energy generation and low potential for resource conflicts. The BLM intends that at least one proposed alternative would consider adjustments to the land use allocations of SEZs, variance areas, and exclusion areas as well as potential updates to the process and procedures that apply in each area. The BLM will consider identifying new priority areas for solar energy development, variance areas, and exclusion areas, including in any additional States (e.g., Idaho, Montana, Oregon, Washington, or Wyoming) that were not evaluated in the 2012 programmatic EIS. The BLM is interested in receiving public feedback on these and other provisions that could be addressed under this programmatic EIS.

Variance Process: The Western Solar Plan provides for utility-scale energy development in variance areas outside of SEZs and exclusion areas. Applications for solar energy developments within a variance area are preliminarily assessed for anticipated conflicts with sensitive and high-value resources to identify potential issues with the siting of the proposed project. Prospective applicants in variance areas must schedule and participate in two preliminary meetings with the BLM before filing a ROW application. Following completion of these preliminary meetings, an applicant is then required to submit a ROW application to the BLM along with a Plan of Development with sufficient detail to allow the BLM to evaluate the suitability of the site for utility-scale solar energy development. Applicants for ROWs in variance areas are required to adhere to the data collection and survey protocols prescribed by resource agencies. The BLM considers a variety of factors when evaluating ROW applications and associated data in variance areas (see 2012 Western Solar Plan, Appendix B, Section B.5). The variance process has been in place for over a decade and was intended to support preliminary screening of applications as a means to validate the technical and financial feasibility of proposed solar projects, gauge the potential for conflicts with key resources and other existing uses using available information, and help ensure that certain up-front coordination has commenced with appropriate State and local governments before committing significant agency resources for a project-specific NEPA analysis. The BLM will consider modifications to the variance process to focus the review and improve efficiency. Further, the BLM will consider whether the process should be included in the programmatic EIS or whether the variance procedures would more appropriately be effectuated by other means, such as through regulation or policy. The BLM anticipates at least one proposed alternative will include changes to the variance process.

Additionally, since implementation of the Western Solar Plan, the majority of authorized solar developments on public land have occurred in variance areas, not SEZs. As such, the BLM will consider whether the purpose of the variance process (i.e., pre-screening potential projects) is being met through other mechanisms—the BLM prioritization of applications for solar development in areas outside of SEZ and exclusion areas; exercise of the BLM's existing authority to deny ROW applications; and site-specific NEPA evaluations—such that the variance process need not be continued.

Definition of Utility-Scale: The Western Solar Plan was limited to utility-scale solar energy development, defined as any project capable of generating 20 or more megawatts (MW) of electricity that is delivered into the electricity transmission grid. Thus, decisions on projects generating less than 20 MW have not been made under the Western Solar Plan and continue to be made based on existing land use plan requirements, applicable policy, and individual site-specific NEPA analyses. The BLM intends to consider modifying the definition of utility-scale development.

Incentivizing Development in SEZ, i.e., Priority Areas: In the Western Solar Plan, the BLM stated that it intended to implement various policies and procedures for projects in SEZs and certain other initiatives to incentivize future utility-scale solar energy development in SEZs (see Western Solar Plan, Appendix B, Section B.4.3). The BLM completed some of these efforts but believes additional incentives should be considered. The BLM is interested in receiving public comment on what additional incentives would facilitate faster and easier permitting in SEZs, improve and facilitate appropriate mitigation, and encourage solar energy development on suitable lands adjacent to SEZs. The BLM also seeks comment on the extent to which the current uncertainty and disruptions in global supply chains might delay deployment of solar and wind energy development projects on public lands and how the BLM could address this concern by incentivizing the use of American made solar system components and union labor.

In addition to a range of alternatives that will include proposed modifications and updates to the Program elements noted above, the BLM will consider a No Action Alternative. Under the No Action Alternative, no changes will be made to the Solar Energy Program. Under the No Action Alternative, no changes would be made to solar energy planning in the additional five Western States (Idaho, Montana, Oregon, Washington, and Wyoming) not covered by the Western Solar Plan.

The BLM welcomes comments on potential modifications and updates to the Program elements described above as well as suggestions for additional alternatives.

BLM Planning Criteria

The planning criteria guide the planning effort and lay the groundwork for effects analysis by identifying the preliminary issues and their analytical frameworks. Preliminary issues for the planning area have been identified by BLM personnel and from early engagement conducted for this planning effort with Federal, State, and local agencies; Tribes; and other stakeholders. The BLM has identified several preliminary issues within the planning criteria for this planning effort's analysis. The planning criteria are available for public review and comment at the ePlanning website https://eplanning.blm.gov/eplanning-ui/admin/project/2022371/510.

Summary of Expected Impacts

BLM personnel have identified the following potential effects to be examined during the planning process: effects to natural and cultural resources, other resource uses, and social and economic conditions from providing opportunities on public lands for renewable energy development. The BLM will also examine the potential for improved conservation outcomes in high-resource value areas allocated as exclusion areas where renewable energy development is prohibited or whether other comprehensive practices could be implemented for utility-scale solar development on BLM-administered public lands to support improved conservation outcomes. The BLM is accepting public input on these issues during the scoping period, consistent with 43 CFR 1610.4-1. The programmatic EIS will describe the environment of the planning area that could be affected by the alternatives under consideration and will evaluate reasonably foreseeable impacts.

The public is invited to comment on information about the relationships among solar energy developments on public lands and the balance between the nation's energy needs and other public land resources and uses, as well as relevant social and economic factors. This information will inform the scope of BLM's alternatives and impact analysis in the programmatic EIS.

Public Scoping Process

This notice of intent initiates the scoping period and public review of the planning criteria, which guide the development and analysis in the programmatic EIS and associated land use plan amendments. The BLM will be holding two virtual and 12 in-person scoping meetings. The specific dates and locations of these scoping meetings will be announced at least 15 days in advance through ePlanning project page and on the BLM website (see ADDRESSES section)

Interdisciplinary Team

The BLM will use an interdisciplinary approach to develop the programmatic EIS and land use plan amendments in order to consider the variety of resource issues and concerns identified. Bureau experts involved in this effort will include, without limitation, the following disciplines: rangeland management, minerals and geology, forestry, outdoor recreation, archaeology, paleontology, wildlife and fisheries, lands and realty, hydrology, soils, sociology and economics.

Additional Information

The BLM will identify, analyze, and consider potential mitigation to address the reasonably foreseeable impacts to resources from the proposed plan amendments and all analyzed reasonable alternatives and, in accordance with 40 CFR 1502.14(e), include appropriate mitigation measures not already included in the proposed plan amendments or alternatives. Mitigation may include avoidance, minimization, rectification, reduction or elimination over time, and compensation, and may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with Indian Tribal Nations on a government-to-government basis in accordance with Executive Order 13175, BLM MS 1780, and other Departmental policies. Tribal concerns, including impacts on Indian trust assets and potential impacts to cultural resources, will be given due consideration. Federal, State, and local agencies, along with Indian Tribal Nations and other stakeholders that may be interested in or affected by the proposed changes to the BLM's solar energy planning and RMP amendments that the BLM is evaluating, are invited to participate in the scoping process and, if eligible, may request or be requested by the BLM to participate in the development of the environmental analysis as a cooperating agency. The BLM will engage in government-to-government consultation meetings. The BLM will provide written invitations to potentially affected Tribal Nations prior to the meetings. The BLM will provide additional opportunities for government-to-government consultation throughout the NEPA process.

Interested parties not submitting comments at this time but who would like to receive a copy of the draft programmatic EIS and other project materials should indicate their preference through the project website (https://eplanning.blm.gov/eplanning-ui/admin/project/2022371/510).

Before including your address, phone number, email address, or other personal identifying information in your comment, you should be aware that your entire comment—including your personal identifying information—may be made publicly available at any time. While you can ask us in your comment to withhold your personal identifying information from public review, we cannot guarantee that we will be able to do so.

Authority: 40 CFR 1501.9 and 43 CFR 1610.2.

Tracy Stone-Manning,
Director, Bureau of Land Management, Department of the Interior.

[FR Doc. 2022-26659 Filed 12-7-22; 8:45 am]

BILLING CODE 4310-84-P